DEPARTMENT OF TRANSPORTATION

Surface Transportation Board

Waybill Sample; Notice of OMB Approval of Information Collection

AGENCY: Surface Transportation Board, DOT.

ACTION: Notice of OMB Approval of Information Collection.

SUMMARY: Pursuant to the Paperwork Reduction Act, 44 U.S.C. 3501, et seq. (PRA) and Office of Management and Budget (OMB) regulations at 5 CFR 1320.11, the Surface Transportation Board has obtained OMB approval for the collection of the Waybill Sample. This collection has been assigned OMB Control No. 2140-0015.

OMB may not approve a collection for longer than three years. Therefore, unless renewed, OMB's approval of this collection will expire on December 17, 2010. The display of a currently valid OMB control number for this collection is required by law. Under the PRA and 5 CFR 1320.8, an agency may not conduct or sponsor, and a person is not required to respond to, a collection of information unless the collection displays a currently valid OMB control number.

Anne K. Quinlan,
Acting Secretary.

[FR Doc. E8-382 Filed 1-10-08; 8:45 am]

BILLING CODE 4915-01-P